DEPARTMENT OF HOMELAND SECURITY

[Docket No. DHS-2015-0056]

President's National Security Telecommunications Advisory Committee

AGENCY: National Protection and Programs Directorate, DHS.

ACTION: Committee Management; Notice of Partially Closed Federal Advisory Committee Meeting.

SUMMARY: The President's National Security Telecommunications Advisory Committee (NSTAC) will meet on Tuesday, November 10, 2015, in Washington, DC. The meeting will be partially closed to the public.

DATES: The NSTAC will meet in a closed session on Tuesday, November 10, 2015, from 8:30 a.m. to 10:45 a.m. and in an open session on Tuesday, November 10, 2015, from 11:00 a.m. to 2:20 p.m.

ADDRESSES: The open, public session will be held at the Department of Homeland Security Immigration and Customs Enforcement facility, 500 12th Street SW., Washington, DC, and will begin at 11:00 a.m. For information on facilities or services for individuals with disabilities, to request special assistance at the meeting, or to attend in person contact nstac@dhs.gov as soon as possible and no later than Tuesday, November 3, 2015.

We are inviting public comment on the issues the NSTAC will consider, as listed in the SUPPLEMENTARY INFORMATION section below. Associated briefing materials that will be discussed at the meeting will be available at www.dhs.gov/nstac for review as of October 27, 2015. Comments must be identified by docket number DHS-2015-0056 and may be submitted by one of the following methods:

• Federal eRulemaking Portal: http://www.regulations.gov. Follow the instructions for submitting comments.

• Email: NSTAC@dhs.gov. Include the docket number in the subject line of the message.

• Fax: 703-235-5962, Attn: Helen Jackson.

• Mail: Designated Federal Officer, National Security Telecommunications Advisory Committee, National Protection and Programs Directorate, Department of Homeland Security, 245 Murray Lane, Mail Stop 0604, Arlington, VA 20598-0604.

Instructions: All submissions received must include the words “Department of Homeland Security” and the docket number for this action. Comments received will be posted without alteration at http://www.regulations.gov, including any personal information provided.

Docket: For access to the docket to read background documents or comments received by the NSTAC, go to http://www.regulations.gov, referencing docket number DHS-DHS-2015-0056.

A public comment period will be held during the open portion of the meeting on Tuesday, November 10, 2015, from 1:55 p.m. to 2:10 p.m. and speakers are requested to limit their comments to three minutes. Please note that the public comment period may end before the time indicated, following the last call for comments. Please contact Helen.Jackson@dhs.gov to register as a speaker by close of business on November 8, 2015. Speakers will be accommodated in order of registration within the constraints of the time allotted to public comment.

FOR FURTHER INFORMATION CONTACT: Helen Jackson, NSTAC Designated Federal Officer, Department of Homeland Security, telephone (703) 235-5321 or Helen.Jackson@dhs.gov.

SUPPLEMENTARY INFORMATION: Notice of this meeting is given under the Federal Advisory Committee Act, 5 U.S.C. Appendix (Pub. L. 92-463). The NSTAC advises the President on matters related to national security and emergency preparedness (NS/EP) telecommunications policy.

Agenda: The committee will meet in the open session to receive an update on current engagement activities between the NSTAC and the NS/EP Communications Executive Committee. The NSTAC will also hold a panel discussion on high performance computing and big data convergence, focusing on public private and cross agency collaboration and the predictive analytics capabilities of big data. The NSTAC will receive brief remarks on the U.S. Department of Commerce's (DOC) progress in promoting Government's cybersecurity efforts since the adoption of the National Institute of Standards and Technology Cybersecurity Framework, the process and approach under which the DOC continues to seek partners for its cybersecurity initiatives, and how private sector participation helps to promote the DOC's cybersecurity efforts. In addition, the NSTAC will receive an update on the work of the NSTAC's examination of big data analytics. The meeting agenda will be available at www.dhs.gov/nstac as of October 27, 2015.

The NSTAC will meet in a closed session to hear a classified briefing regarding current cyber threats against the communications infrastructure, and to discuss potential future NSTAC study topics.

Basis for Closure: In accordance with 5 U.S.C. 552b(c), The Government in the Sunshine Act, it has been determined that two agenda items require closure as the disclosure of the information would not be in the public interest.

The first of these agenda items, the classified briefing, will provide members with information on current threats against the communications infrastructure. Disclosure of these threats would provide criminals who wish to intrude into commercial and Government networks with information on potential vulnerabilities and mitigation techniques, also weakening existing cybersecurity defense tactics. This briefing will be classified at the top secret level, thereby exempting disclosure of the content by statute. Therefore, this portion of the meeting is required to be closed pursuant to 5 U.S.C. 552b(c)(1)(A).

The second agenda item, the discussion of potential NSTAC study topics, will address areas of critical cybersecurity vulnerabilities and priorities for Government. Government officials will share data with NSTAC members on initiatives, assessments, and future security requirements across public and private networks. The data to be shared includes specific vulnerabilities within cyberspace that affect the Nation's communications and information technology infrastructures and proposed mitigation strategies. Disclosure of this information to the public would provide criminals with an incentive to focus on these vulnerabilities to increase attacks on our cyber and communications networks. Therefore, this portion of the meeting is likely to significantly frustrate implementation of proposed DHS actions and is required to be closed pursuant to 5 U.S.C. 552b(c)(9)(B).

Dated: October 20, 2015.
Helen Jackson,
Designated Federal Officer for the NSTAC.

[FR Doc. 2015-27101 Filed 10-23-15; 8:45 am]

BILLING CODE 9110-9P-P